DEPARTMENT OF COMMERCE

International Trade Administration

[C-533-888, C-570-105]

Carbon and Alloy Steel Threaded Rod From India and the People's Republic of China: Postponement of Preliminary Determinations in the Countervailing Duty Investigations

AGENCY: Enforcement and Compliance, International Trade Administration, Department of Commerce.

DATES: Applicable April 25, 2019.

FOR FURTHER INFORMATION CONTACT: Carrie Bethea at (202) 482-1491 (India), and Thomas Schauer at (202) 482-0410 (the People's Republic of China (China)), AD/CVD Operations, Enforcement and Compliance, International Trade Administration, U.S. Department of Commerce, 1401 Constitution Avenue NW, Washington, DC 20230.

SUPPLEMENTARY INFORMATION:

Background

On March 13, 2019, the Department of Commerce (Commerce) initiated countervailing duty (CVD) investigations of imports of carbon and alloy steel threaded rod from China and India.¹ Currently, the preliminary determinations are due no later than May 17, 2019.

¹ See Carbon and Alloy Steel Threaded Rod from India and the People's Republic of China: Initiation of Countervailing Duty Investigations, 84 FR 10040 (March 19, 2019) (Initiation Notice).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Vulcan Threaded Products Inc.

On March 29, 2019, the petitioner submitted timely requests that Commerce postpone the preliminary CVD determinations.³ The petitioner stated that additional time is necessary to allow Commerce to select mandatory respondents and issue questionnaires, as well as to allow Commerce and the petitioner to review questionnaire responses and identify deficiencies; additional time will also permit Commerce to issue and receive supplemental questionnaires prior to the preliminary determinations.⁴ In accordance with 19 CFR 351.205(e), the petitioner has stated the reasons for requesting a postponement of the preliminary determinations, and Commerce finds no compelling reason to deny the requests. Therefore, in accordance with section 703(c)(1)(A) of the Act, Commerce is postponing the deadline for the preliminary determinations to no later than 130 days after the date on which these investigations were initiated, i.e., July 22, 2019.⁵ Pursuant to section 705(a)(1) of the Act and 19 CFR 351.210(b)(1), the deadline for the final determinations of these investigations will continue to be 75 days after the date of the preliminary determinations.

³ See Letters from the petitioner, “Carbon and Alloy Steel Threaded Rod from India: Request to Extend Preliminary Determination Deadline,” dated March 29, 2019, and “Carbon and Alloy Steel Threaded Rod from China: Request to Extend Preliminary Determination Deadline,” dated March 29, 2019.

⁴ Id.

⁵ The actual deadline is July 21, 2019, which is a Sunday. In accordance with Commerce's practice, where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: April 19, 2019.
Jeffrey I. Kessler,
Assistant Secretary for Enforcement and Compliance.

[FR Doc. 2019-08345 Filed 4-24-19; 8:45 am]

BILLING CODE 3510-DS-P